DEPARTMENT OF COMMERCE

Foreign-Trade Zones Board

[B-23-2015]

Authorization of Production Activity, Foreign-Trade Subzone 93I, Cormetech, Inc., (Selective Catalyst Reduction Catalysts), Durham, North Carolina

On April 9, 2015, the Triangle J Council of Governments, grantee of FTZ 93, submitted a notification of proposed production activity to the Foreign-Trade Zones (FTZ) Board on behalf of Cormetech, Inc., for its facility located in Durham, North Carolina.

The notification was processed in accordance with the regulations of the FTZ Board (15 CFR part 400), including notice in the Federal Register inviting public comment (80 FR 22706, 4-23-2015). The FTZ Board has determined that no further review of the activity is warranted at this time. The production activity described in the notification is authorized, subject to the FTZ Act and the FTZ Board's regulations, including Section 400.14.

Dated: August 10, 2015.
Andrew McGilvray,
Executive Secretary.

[FR Doc. 2015-20095 Filed 8-13-15; 8:45 am]

BILLING CODE 3510-DS-P